DEPARTMENT OF THE INTERIOR

Bureau of Land Management

[LLCA 942000 L57000000 BX0000]

Filing of Plats of Survey: California

AGENCY: Bureau of Land Management, Interior.

ACTION: Notice.

SUMMARY: The plats of survey and supplemental plats of lands described below are scheduled to be officially filed in the Bureau of Land Management California State Office, Sacramento, California, thirty (30) calendar days from the date of this publication.

ADDRESSES: A copy of the plats may be obtained from the California State Office, Bureau of Land Management, 2800 Cottage Way, Sacramento, California 95825, upon required payment.

PROTEST: A person or party who wishes to protest a survey must file a notice that they wish to protest with the California State Director, Bureau of Land Management, 2800 Cottage Way, Sacramento, California, 95825.

FOR FURTHER INFORMATION CONTACT: Chief, Branch of Geographic Services, Bureau of Land Management, California State Office, 2800 Cottage Way, Room W-1623, Sacramento, California 95825, (916) 978-4310.

SUPPLEMENTARY INFORMATION: These surveys and supplemental plats were executed to meet the administrative needs of various federal agencies; the Bureau of Land Management, Bureau of Indian Affairs or US Forest Service. The lands surveyed are:

Humboldt Meridian, California

T. 8 N., R. 3 E., dependent resurvey and subdivision accepted September 9, 2011.

Mount Diablo Meridian, California

T. 25 N., R. 8 W., dependent resurvey and subdivision of sections accepted September 7, 2011.

T. 21 N., R. 6 W., dependent resurvey, subdivision and metes-and bounds survey accepted September 14, 2011.

T. 25 N., R. 9 W., dependent resurvey and subdivision of section accepted September 15, 2011.

T. 6 S., R. 2 W., metes-and-bounds survey accepted September 30, 2011.

San Bernardino Meridian, California

T. 4 S., R. 4 E., supplemental plat of the West ½ of section 14, accepted August 18, 2011.

T. 5 S., R. 12 W., metes-and-bounds survey accepted September 28, 2011.

T. 5 S., R. 23 E., dependent resurvey and subdivision of sections 1 and 12 accepted September 30, 2011.

Dated: October 7, 2011, Authority: 43 U.S.C., chapter 3.
Lance J. Bishop,
Chief Cadastral Surveyor, California.

[FR Doc. 2011-27024 Filed 10-18-11; 8:45 am]

BILLING CODE 4310-40-P